DEPARTMENT OF THE TREASURY

Submission for OMB Review; Comment Request

June 19, 2003.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 28, 2003 to be assured of consideration.

Internal Revenue Service (IRS)

OMB Number: 1545-0059.

Form Number: IRS Form 4137.

Type of Review: Extension.

Title: Social Security and Medicare Tax on Unreported Tip Income.

Description: Section 3102 requires an employee who receives tips subject to Social Security and Medicare tax to compute tax due on these tips if the employee did not report them to his or her employer. The data is used to help verify that the Social Security and Medicare tax on income is correctly computed.

Respondents: Individuals or households.

Estimated Number of Respondents/Recordkeepers: 76,000.

Estimated Burden Hours Per Respondent/Recordkeeper:

Recordkeeping—26 min.

Learning about the law or the form—7 min.

Preparing the form—26 min.

Copying, assembling, and sending the form to the IRS—20 min.

Frequency of Response: Annually.

Estimated Total Reporting/Recordkeeping Burden: 101,080 hours.

OMB Number: 1545-0160.

Form Number: IRS Form 3520-A.

Type of Review: Extension.

Title: Annual Information Return of Foreign Trust with a U.S. Owner.

Description: Section 6048(b) requires that foreign trusts with at least one U.S. beneficiary must file an annual information return on Form 3520-A. The form is used to report the income and deductions of the foreign trust and provide statements to the U.S. owners and beneficiaries. IRS uses Form 3520-A to determine if the owner of the trust has included the net income of the trust in its gross income.

Respondents: Individuals or households, Business or other for-profit.

Estimated Number of Respondents/Recordkeepers: 500.

Estimated Burden Hours Per Respondent/Recordkeeper:

Recordkeeping—37 hr., 18 min.

Learning about the law or the form—2 hr., 40 min.

Preparing and sending the form to the IRS—3 hr., 24 min.

Frequency of Response: Annually.

Estimated Total Reporting/Recordkeeping Burden: 21,700 hours.

OMB Number: 1545-0192.

Form Number: IRS Form 4970.

Type of Review: Extension.

Title: Tax on Accumulation Distribution of Trusts.

Description: Form 4970 is used by a beneficiary of a domestic or foreign trust to compute the tax adjustment attributable to an accumulation distribution. The form is used to verify whether the correct tax has been paid on the accumulation distribution.

Respondents: Individuals or households.

Estimated Number of Respondents/Recordkeepers: 30,000.

Estimated Burden Hours Per Respondent/Recordkeeper:

Recordkeeping—1 hr., 12 min.

Learning about the law or the form—15 min.

Preparing the form—1 hr., 25 min.

Copying, assembling, and sending the form to the IRS—20 min.

Frequency of Response: Annually.

Estimated Total Reporting/Recordkeeping Burden: 96.600 hours.

OMB Number: 1545-1181.

Form Number: IRS Form 8752.

Type of Review: Extension.

Title: Required Payment or Refund Under section 7519.

Description: This form is used to verify that partnerships and S corporations that have made a section 444 election have correctly reported the payment required under section 7519.

Respondents: Business or other for-profit.

Estimated Number of Respondents/Recordkeepers: 72,000.

Estimated Burden Hours Per Respondent/Recordkeeper:

Recordkeeping—5 hr., 44 min.

Learning about the law or the form—1 hr., 0 min.

Preparing, copying, assembling, and sending the form to the IRS—1 hr., 7 min.

Frequency of Response: Annually.

Estimated Total Reporting/Recordkeeping Burden: 565,920 hours.

Clearance Officer: Glenn Kirkland (202) 622-3428, Internal Revenue Service, Room 6411-03, 1111 Constitution Avenue, NW., Washington, DC 20224.

OMB Reviewer: Joseph F. Lackey, Jr. (202) 395-7316, Office of Management and Budget, Room 10235, New Executive Office Building, Washington, DC 20503.

Lois K. Holland,
Treasury PRA Clearance Officer.

[FR Doc. 03-16121 Filed 6-25-03; 8:45 am]

BILLING CODE 4830-01-P